DEPARTMENT OF THE INTERIOR

National Park Service

[NPS-WASO-NRNHL-DTS#-31706);PPWOCRADI0, PCU00RP14.R50000]

National Register of Historic Places; Notification of Pending Nominations and Related Actions

AGENCY: National Park Service, Interior.

ACTION: Notice.

SUMMARY: The National Park Service is soliciting electronic comments on the significance of properties nominated before March 27, 2021, for listing or related actions in the National Register of Historic Places.

DATES: Comments should be submitted electronically by April 21, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before March 27, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ILLINOIS

De Kalb County

Shabbona Hotel, 104 West Comanche St., Shabbona, SG100006489

NEW YORK

Columbia County

New Lebanon District No. 8 School, 565 US 20 (Columbia Tpk.), New Lebanon, SG100006480

Erie County

Buffalo Club, The, 388 Delaware Ave., Buffalo, SG100006481

Kings County

Building at 240 Broadway, 240 Broadway, Brooklyn, SG100006482

Loew's Kameo Theater, 530 Eastern Pkwy., Brooklyn, SG100006483

Williamsburg Houses, 134 Bushwick Ave., 214 Graham Ave., 178 Leonard St., 108, 160, 176, 196 Maujer St., 93, 195, 219 Scholes St., 101, 106, 125, 180 Stagg Walk, 123, 143, 164, 188, 200, 222 Ten Eyck Walk, Brooklyn, SG100006484

Monroe County

Walker-Warren House, 5628 West Henrietta Rd., West Henrietta, SG100006485

New York County

Hansberry, Lorraine, House, 337 Bleeker St., New York, SG100006490

Niagara County

Harrison Radiator Corporation Factory, 190 Walnut St. and 160 Washburn St., Lockport, SG100006486

Westchester County

Larchmont Avenue Church, 60 Forest Park Ave., Larchmont, SG100006487

Resnick, Solomon, House, 1256 Hardscrabble Rd., Chappaqua, SG100006488

SOUTH CAROLINA

Edgefield County

U.S. Highway 25, Portions of Old US 25, Augusta Arbor Way, Calhoun Mountain, Frontage, Moki, Old Buncombe, Perimeter, and Old Augusta Rds., Edgefield vicinity, SG100006492

Greenville County

U.S. Highway 25, Portions of Old US 25, Augusta Arbor Way, Calhoun Mountain, Frontage, Moki, Old Buncombe, Perimeter, and Old Augusta Rds., Greenville vicinity, SG100006492

U.S. Highway 25, Portions of Old US 25, Augusta Arbor Way, Calhoun Mountain, Frontage, Moki, Old Buncombe, Perimeter, and Old Augusta Rds., Travelers Rest vicinity, SG100006492

TEXAS

Bowie County

Texarkana National Bank (Motor Bank and Parking Garage), 217 Pine St., Texarkana, SG100006491

Harris County

J.A. Folger and Company Plant, 235 North Norwood St., Houston, SG100006493

WISCONSIN

Green County

1st and 2nd Street Historic District, Generally bounded by 1st and 2nd Sts. between 6th and 12th Aves., New Glarus, SG100006495

2nd Street Commercial Historic District, 2nd St. between 4th and 5th Aves., 130 and 200 5th Ave., New Glarus, SG100006496

WYOMING

Platte County

Powars II Paleoindian Hematite Quarry, (Paleoindian Archaeology in Wyoming MPS), Address Restricted, Sunrise vicinity, MP100006494

Authority: Section 60.13 of 36 CFR part 60.

Dated: March 30, 2021.
Sherry A. Frear,
Chief, National Register of Historic Places/National Historic Landmarks Program.

[FR Doc. 2021-07035 Filed 4-5-21; 8:45 am]

BILLING CODE 4312-52-P